DEPARTMENT OF COMMERCE

United States Patent and Trademark Office

[Docket No. 2003-T-022]

Notice of Change in Publication Format for the Official Gazette of the United States Patent and Trademark Office—Trademarks

AGENCY: United States Patent and Trademark Office, Commerce.

ACTION: Notice.

SUMMARY: The United States Patent and Trademark Office (Office) announces its intention to disseminate all future editions of the Official Gazette of the United States Patent and Trademark Office—Trademarks (OG-T) solely in electronic format.

DATES: Beginning on July 15, 2003, the Office will publish all future editions of the OG-T only in electronic format via the Internet at the Office Web site (http://www.uspto.gov).

SUPPLEMENTARY INFORMATION:

Background

The Office has published the Official Gazette of the United States Patent and Trademark Office—Trademarks in paper format for many years. In March 2002, the Office also commenced publication of the OG-T on its Web site. Currently, the Office provides the text of the OG-T to the Government Printing Office (GPO) for paper publication. Publication of the OG-T is provided for by 15 U.S.C. 1051, 1062, 1063 and 1092. The OG-T is published each week, and provides notice of various matters related to trademark registrations and to applications for trademark registration, including listings of (1) Marks that the Office has approved for registration, (2) registrations that have been cancelled, (3) registrations that have expired, (4) cancelled or expired registrations that have been reinstated, (5) registrations that have been amended or corrected, (6) entities that have received registrations and (7) new certificates that were issued with respect to existing registrations. The OG-T also includes notices that explain existing Office practice, as well as notices that announce proposed or actual changes to Office practice.

Additionally, the OG-T is used to effect service by publication in connection with proceedings at the Trademark Trial and Appeal Board, where notices of proceedings are mailed to a registrant's last known address but are returned by the postal service as undeliverable. The OG-T also includes summaries of final decisions issued by the Trademark Trial and Appeal Board.

New Procedure

In view of the widespread access to computers and the Internet, the Office will only publish the OG-T in electronic format effective July 15, 2003. It is noted that the Office will continue to supply the GPO with an electronic copy of each issue of the OG-T, and that the GPO plans to continue to produce paper copies of the OG-T. GPO also plans to produce CD ROMs that feature searchable versions of the OG-T, if there is sufficient demand.

FOR FURTHER INFORMATION CONTACT: Mary Hannon, Office of the Commissioner for Trademarks, by telephone at (703) 306-8910, ext. 137.

Dated: June 19, 2003.
James E. Rogan,
Under Secretary of Commerce for Intellectual Property and Director of the United States Patent and Trademark Office.

[FR Doc. 03-16021 Filed 6-24-03; 8:45 am]

BILLING CODE 3510-16-P